DEPARTMENT OF LABOR

Employment and Training Administration

[TA-W-82,364]

Atmel Corporation, Colorado Springs, Colorado; Amended Certification Regarding Eligibility To Apply for Worker Adjustment Assistance

In accordance with Section 223 of the Trade Act of 1974, as amended (“Act”), 19 U.S.C. 2273, the Department of Labor issued a Certification of Eligibility To Apply for Worker Adjustment Assistance on June 4, 2013, applicable to workers of Atmel Corporation, Colorado Springs, Colorado. The Department's notice of determination was published in the Federal Register on July 2, 2013 (Volume 78 FR Pages 39776-39779).

At the request of one-stop operator/partner, the Department reviewed the certification for workers of the subject firm. The workers are engaged in activities related to the production of semiconductor wafers.

The one-stop operator/partner reports that all of the workers at Atmel Corporation, Colorado Springs, Colorado were engaged in activities related to production of semiconductor wafers and that the certification should not be limited to the Colorado Springs Foundry Operations Group, Colorado Springs Test Group and the Equipment Engineering Services Group.

The amended notice applicable to TA-W-82,364 is hereby issued as follows:

All workers of Atmel Corporation, Colorado Springs, Colorado who became totally or partially separated from employment on or after January 22, 2012 through June 4, 2015, and all workers in the group threatened with total or partial separation from employment on June 4, 2013 through June 4, 2015, are eligible to apply for adjustment assistance under Chapter 2 of Title II of the Trade Act of 1974, as amended.

Signed in Washington, DC, this 19th day of November, 2013.
Michael W. Jaffe,
Certifying Officer, Office of Trade Adjustment Assistance.

[FR Doc. 2013-29248 Filed 12-6-13; 8:45 am]

BILLING CODE 4510-FN-P